DEPARTMENT OF TRANSPORTATION

Pipeline and Hazardous Materials Safety Administration

[Docket No. PHMSA-2019-0100]

Hazardous Materials: Notice of Availability of the Draft Environmental Assessment for a Special Permit Request for Liquefied Natural Gas by Rail

AGENCY: Pipeline and Hazardous Materials Safety Administration (PHMSA), DOT.

ACTION: Notice; comment period extension.

SUMMARY: PHMSA is extending the comment period for the notice announcing the availability for public review of and comment on the draft environmental assessment for a special permit request to transport “Methane, Refrigerated Liquid” (i.e., liquefied natural gas) by rail tank car.

DATES: The comment period for the notice published June 6, 2019, at 84 FR 26507, is extended. Comments should be received on or before August 7, 2019. To the extent possible, PHMSA will consider late-filed comments.

ADDRESSES: Comments should reference the Docket number for this notice and may be submitted in the following ways:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2019-0100) for this notice at the beginning of the comment. To avoid duplication, please use only one of these four methods. All comments received will be posted without change to the Federal Docket Management System (FDMS) and will include any personal information you provide. If sent by mail, comments must be submitted in duplicate. Persons wishing to receive confirmation of receipt of their comments must include a self-addressed stamped postcard.

Docket: For access to the dockets to read associated documents or comments received, go to http://www.regulations.gov or DOT's Docket Operations Office (see ADDRESSES).

Privacy Act: In accordance with 5 U.S.C. 553(c), DOT solicits comments from the public to better inform its process. DOT posts these comments, without change, including any personal information the commenter provides, to http://www.regulations.gov, as described in the system of records notice (DOT/ALL-14 FDMS), which can be reviewed at http://www.dot.gov/privacy.

FOR FURTHER INFORMATION CONTACT: Ryan Paquet by telephone at 202-366-4511, or email at specialpermits@dot.gov.

SUPPLEMENTARY INFORMATION:

I. Background

On June 6, 2019, PHMSA published a notice announcing the availability of a draft environmental assessment for public review. Specifically, PHMSA received a request for a special permit from Energy Transport Solutions, LLC seeking authorization to transport “Methane, Refrigerated Liquid” (UN1972), commonly known and liquefied natural gas (LNG), in a rail tank car. The request is to authorize shipment of LNG in a DOT specification 113C120W tank car subject to certain operational conditions. We invited interested persons to review and provide comment on the “draft environmental assessment” for this special permit request; and to include relevant information on potential safety, environmental, and any additional impacts that should be considered. PHMSA has also included the draft special permit in the docket for this notice as further reference material. The notice, draft environmental assessment, and draft special permit are available for review at http://www.regulations.gov under Docket number PHMSA-2019-0100.

II. Comment Period Extension

PHMSA is granting a request to extend the comment period. The request was received from two members of Congress.¹ PHMSA initially provided a 30-day comment period to the notice, which ends on July 8, 2019. The comment period is being extended 30 days. The comment period will now close on August 7, 2019. This will allow PHMSA to seek additional review and public input on this issue.

¹ See June 28, 2019, letter from Representative Peter A. DeFazio, Chairman, Committee on Transportation and Infrastructure and Representative Tom Malinowski, which has been added to the docket at www.regulations.gov.

III. Additional Docket Materials

PHMSA is also using this comment period extension notice to make the public aware of additional documents submitted to the docket and available for public review:

1. An updated draft Environmental Assessment.

2. The Energy Transport Solutions, LLC Quantitative Risk Assessment (QRA).

3. The Energy Transport Solutions, LLC special permit application (in redacted form).

Issued in Washington, DC, on July 3, 2019, under authority delegated in 49 CFR part 1.97.
Drue Pearce,
Deputy Administrator, Pipeline and Hazardous Materials Safety Administration.

[FR Doc. 2019-14532 Filed 7-8-19; 8:45 am]

BILLING CODE 4910-60-P